COMMISSION ON CIVIL RIGHTS

Sunshine Act Meeting

AGENCY: United States Commission on Civil Rights.

ACTION: Notice of Commission Public Briefing, COVID-19 in Indian Country: The Impact of Federal Broken Promises on Native Americans, Notice of Commission Business Meeting, and Call for Public Comments

DATES: Friday, July 17, 2020, 10:00 a.m. ET.

ADDRESSES: Virtual Briefing and Business Meeting.

FOR FURTHER INFORMATION CONTACT: Zakee Martin (202) 376-8359; TTY: (202) 376-8116; publicaffairs@usccr.gov.

SUPPLEMENTARY INFORMATION: On Friday, July 17, at 10:00 a.m. Eastern Time, the U.S. Commission on Civil Rights will hold a virtual briefing to evaluate the impacts of COVID-19 on Native Americans. In 2018, the Commission issued Broken Promises: Continuing Federal Funding Shortfall for Native Americans, which addressed the inadequacy of federal funding for Native American programs despite the United States' trust responsibility to promote tribal self-government, support the general wellbeing of Native American people, tribes and villages, and to protect their land and resources.

The Commission will hear testimony from experts on how the pandemic has impacted Native American communities with respect to healthcare, housing, and infrastructure components such as access to water and broadband, and whether the federal government is meeting its obligations to Native American people in this current crisis.

This briefing is open to the public via Weblink. The event will live-stream at https://www.youtube.com/user/USCCR/videos. (Streaming information subject to change.) Public participation is available for the event with view access, along with an audio option for listening.

Computer assisted real-time transcription (CART) will be provided. The web link to access CART (in English) on Friday, July 17, 2020, is https://www.streamtext.net/player?event=USCCR. Please note that CART is text-only translation that occurs in real time during the meeting and is not an exact transcript. To request additional accommodations, persons with disabilities should email access@usccr.gov by Monday, July 13, 2020, indicating “accommodations” in the subject line.

Briefing Agenda for COVID-19 in Indian Country: The Impact of Federal Broken Promises on Native Americans: 10:00 a.m.-11:45 a.m.

I. Introductory Remarks: Chair Catherine E. Lhamon: 10:00 a.m.—10:10 a.m.

II. Panel: 10:10 a.m.—11:40 a.m.

A. Geoffrey Blackwell, Chief Strategy Officer, AMERIND Risk Management Corporation

B. William Smith, Chairman, National Indian Health Board

C. Lynn Malerba, Chairwoman, Mohegan Tribe/Tribal Governance Advisory Committee

D. Jonathan Nez, President, Navajo Nation

E. Fawn Sharp, President, National Congress of American Indians

III. Closing Remarks: Chair Catherine E. Lhamon: 11:40 a.m.—11:45 a.m.

III. Break: 11:45 a.m.—12:00 p.m.

Commission Business Meeting Agenda: 12:00 p.m.-1:00 p.m.

A. Approval of Agenda

B. Business Meeting

a. Discussion and vote on Commission Advisory Committees

i. Vermont Advisory Committee

ii. Idaho Advisory Committee

iii. Louisiana Advisory Committee

b. Discussion and vote on timeline for Commission's study on bail reform

c. Discussion and vote on timeline for Commission's study on maternal health disparities

C. Management and Operations

a. Staff Director's Report

V. Adjourn Meeting.

Schedule is subject to change.

Call for Public Comments:

In addition to the testimony collected on Friday, July 17, 2020 via virtual briefing, the Commission welcomes the submission of material for consideration as we prepare our report. Please submit such information no later than Friday, July 24, 2020, to BrokenPromises@usccr.gov or OCRE/Public Comments, U.S. Commission on Civil Rights, 1331 Pennsylvania Ave. NW, Suite 1150, Washington, DC 20425. Please address the following questions:

1. Broken Promises found that Native Americans experience distinct health disparities as compared to other Americans which are compounded by Native American healthcare programs being chronically underfunded. How has the outbreak of COVID-19 impacted these health disparities?

2. Broken Promises found that there is a severe lack of affordable housing and adequate physical infrastructure in Indian Country. Due to a lack of federal investment in affordable housing and infrastructure such as roads, water, sewer, and electricity, Native Americans often find themselves living in overcrowded housing without basic utilities and infrastructure. What have been the consequences of these disparities in housing conditions and access to infrastructure during the outbreak of COVID-19?

3. Broken Promises found that telecommunications infrastructure, especially wireless and broadband internet services, is often inaccessible to many Native Americans in Indian Country. These services are necessary to keep the community connected to telehealth services, remote education, economic development, and public safety. Has this lack of telecommunications created additional barriers for Native Americans in coping with and reacting to the pandemic?

4. Have the congressional responses to the pandemic—especially the passage of the CARES Act and other stimulus packages—done enough to help Native people with the challenges posed by COVID-19?

5. Has the Executive Branch's responses to the pandemic—including its statutory interpretation and administrative implementation of laws passed by Congress—done enough to help Native peoples cope with the challenges passed by Congress?

6. What recommendations should the Commission make to Congress and the federal government to ensure that Native American communities can address the coronavirus pandemic?

Dated: July 8, 2020.
David Mussatt,
Supervisory Chief, Regional Programs Unit.

[FR Doc. 2020-15027 Filed 7-8-20; 11:15 am]

BILLING CODE P